CIVIL RIGHTS COMMISSION

Sunshine Act Meeting Notice

AGENCY: United States Commission on Civil Rights.

ACTION: Notice of Commission public business meeting.

DATES: Thursday January 30, 2020, 10:30 a.m. EDT.

ADDRESSES: Meeting to take place by telephone.

FOR FURTHER INFORMATION CONTACT: Mauro Morales: (202) 376-7796; TTY: (202) 376-8116; publicaffairs@usccr.gov.

SUPPLEMENTARY INFORMATION: This business meeting is open to the public by telephone only: 1-800-6357637, Conference ID 936-8854. Persons with disabilities who need accommodation should contact Pamela Dunston at (202) 376-8105 or at access@usccr.gov at least seven (7) business days before the scheduled date of the meeting.

Meeting Agenda

I. Approval of Agenda

II. Business Meeting

A. Discussion and vote on Chair for Arkansas Advisory Committee to the Commission

B. Discussion and vote on timeline, discovery plan, and outline for Commission project on maternal health disparities

C. Management and Operations

• Staff Director's Report

III. Adjourn Meeting

Dated: January 16, 2020.
David Mussatt,
Supervisory Chief, Regional Programs Unit.

[FR Doc. 2020-01045 Filed 1-17-20; 11:15 am]

BILLING CODE P